DEPARTMENT OF HOMELAND SECURITY

Transportation Security Administration

Intent To Request Approval From OMB of One New Public Collection of Information: Travel Request and Expense Report Form for TSA Contractors

AGENCY: Transportation Security Administration, DHS.

ACTION: 60-day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves the submission of travel request and reimbursement information by TSA contractors to the Contracting Officer Representative (COR) for their approval. A TSA contractor will submit the form prior to and upon return from travel.

DATES: Send your comments by February 6, 2017.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Contact Christina Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

Pursuant to the Federal Travel Regulation (FTR), TSA has authority to implement statutory requirements and policies for travel by Federal civilian employees and others authorized to travel at government expense. See FTR, 41 CFR 300. See also 5 U.S.C. 5707 (Travel, Transportation, and Subsistence).¹ Consistent with this authority, TSA created the Contractor Travel Request and Expense Report form, TSA Form 308. The form allows a TSA Contracting Officer Representative to preauthorize reimbursable travel for a contractor intending to conduct travel determined to be a reimbursable expense under the contract. Requiring preauthorization for travel ensures the requested travel is within scope of the contract and any costs incurred are in compliance with the FTR. Additionally, the form may be used post-travel to verify that the invoiced-amount is consistent with the preauthorized costs, which ensures government dollars used to fund the travel are not misused and that the government does not overpay for any reimbursable travel.

¹ Visit www.gsa.gov/federaltravelregulation for text and other information regarding the FTR. Under the FTR, a Federal traveler is a person who travels on a Government aircraft and who is either: (1) A civilian employee in the Government service; (2) a member of the uniformed or foreign services of the U.S. Government; or (3) a contractor working under a contract with an executive agency. See 41 CFR 300-3.1.

Description of Data Collection

The data collected on the Contractor Travel Request and Expense Report includes basic identifying information for the individual traveling, such as full name of the traveler, travel date(s) and location(s), departure information, justification for travel, all costs associated with the travel, name and contract number for the vendor and signature of the requesting vendor. The travel-related submission policy for the TSA program office using the form will determine whether the person completing and submitting the form is an individual from the vendor's administrative staff or the traveler. The completed form is submitted to the contractor via email or other electronic format and does not require password protection. The data will be collected, as necessary, when travel-related expenses under a contract meet the stipulated requirements for reimbursable-travel. The total annual number of respondents is estimated to be 450 and the annual burden hours is estimated to be 112.5 hours per year.

Use of Results

TSA will use these results as a basis for authorizing travel before departure and as a means to track expenditures for contractor-reimbursable travel. Reviewing the information collected will ensure that travel remains within scope of the contract and that any costs incurred are in compliance with the FTR. By continuing to track the expenditures annually and by contract, TSA can improve budgeting for travel and have a more informed set of requirements for future contracts. Failure to collect this information could lead to unauthorized expenditures by the contractor and/or incorrect budget request submissions.

Dated: November 30, 2016.
Christina Walsh,
TSA Paperwork Reduction Act Officer, Office of Information Technology.

[FR Doc. 2016-29146 Filed 12-5-16; 8:45 am]

BILLING CODE 9110-05-P